OFFICE OF PERSONNEL MANAGEMENT

Submission for Review: 3206-0173, CSRS/FERS Designation of Beneficiary, Standard Form 3102

AGENCY: Office of Personnel Management.

ACTION: 30-Day notice and request for comments.

SUMMARY: Retirement Services, Office of Personnel Management (OPM) offers the general public and other federal agencies the opportunity to comment on a revised information collection request (ICR), CSRS/FERS Designation of Beneficiary, Standard Form 3102.

DATES: Comments are encouraged and will be accepted until July 30, 2021.

ADDRESSES: Interested persons are invited to submit written comments on the proposed information collection to the Office of Information and Regulatory Affairs, Office of Management and Budget, 725 17th Street NW, Washington, DC 20503, Attention: Desk Officer for the Office of Personnel Management or sent via electronic mail to: oira_submission@omb.eop.gov or faxed to (202) 395-6974.

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0173) was previously published in the Federal Register on August 13, 2020 at 85 FR 49402, allowing for a 60-day public comment period. One comment was received: “The SSA agrees that combining the SF 2808 and SF 3102 simplifies the process and eliminates the possibility of invalid designations due to the completion of the incorrect form. Since OPM maintains all SF 2808 forms, agencies do not have access to previously filed forms to respond to employee requests for information. This may be problematic when employees are assessing the need to update their records. The new SF 3102 should indicate that agencies do not maintain the CSRS designation forms and provide instructions for employees to complete a new form if they are unsure if they have previously completed a designation or are unsure about whom they have previously designated. Otherwise, the form should indicate that employees must contact OPM for information about previously filed SF 2808 forms. The SSA suggests that, in addition to accepting wet signatures on the retirement designation beneficiary forms, OPM accept digital signatures using PIV credentials by employees and HR offices. Forms with validated digital employee signatures using PIV credentials should not require witness signatures. Since it is crucial for employees keeping their designation forms up to date, having a mechanism for electronic submission provides for more timely submission by employee and certification by HR offices”. Our response is: (1) “Filing a designation is not needed if the person is satisfied with the federal order of precedence for payment of lump-sum payment under CSRS or FERS. Furthermore, individuals receive a copy of the form that is filed with the employing agency or OPM and can access their personal records to determine whether there is a need to update a previously filed form. Additionally, the form cautions the applicant that the person designated will be paid even if that person's name or relationship to the designator changes after the form is filed. We revised the instructions to indicate that the employee subject to CSRS should send both copies of the revised SF 3102 to OPM who will validate the form and provide a copy to the employee for their records. We indicated that the employing agency does not maintain the form of the CSRS employee.” and (2) “By regulation, employees are not allowed to use electronic signatures or PIV/CAC cards to sign the SF 3102, Designation of Beneficiary form. Title 5, Code of Federal Regulations on CSRS designations states that a designation of beneficiary must be in writing, signed and witnessed and received in the employing office (or in OPM, in the case of a retiree, or compensationer, or a separated employee) before the death of the designator. Therefore, no changes will be made to the signature and witness requirement because there are no changes to the appropriate regulation.” The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 3102, CSRS/FERS Designation of Beneficiary, is used by an employee or annuitant covered under the Civil Service Retirement System or the Federal Employees Retirement System to designate a beneficiary to receive any lump sum due in the event of his/her death. The SF 3102 (FERS Designation of Beneficiary) is being combined with the SF 2808 (CSRS Designation of Beneficiary). The proposed version of SF 3102 will supersede all previous editions of SF 2808 and SF 3102.

Analysis

Agency: Retirement Operations, Retirement Services, Office of Personnel Management.

Title: CSRS/FERS Designation of Beneficiary.

OMB Number: 3206-0173.

Frequency: On occasion.

Affected Public: Individuals or Households.

Number of Respondents: 5,888.

Estimated Time per Respondent: 15 minutes.

Total Burden Hours: 1,472.

Office of Personnel Management.
Kellie C. Riley,
Director, Office of Privacy and Information Management.

[FR Doc. 2021-13898 Filed 6-29-21; 8:45 am]

BILLING CODE 6325-38-P